DEPARTMENT OF TRANSPORTATION

Federal Aviation Administration

Notice of Intent To Rule on Application 02-05-C-00-GPT To Impose and use the Revenue From a Passenger Facility Charge (PFC) at Gulfport-Biloxi International Airport, Gulfport, MS

AGENCY: Federal Aviation Administration (FAA), DOT.

ACTION: Notice of Intent to Rule on Application.

SUMMARY: The FAA proposes to rule and invites public comment on the application to impose and use the revenue from a PFC at Gulfport-Biloxi International Airport under the provisions of the 49 U.S.C. 40117 and part 158 of the Federal Aviation Regulations (14 CFR part 158).

DATES: Comments must be received on or before date which is 30 days after date of publication in the Federal Register.

ADDRESSES: Comments on this application may be mailed or delivered in triplicate to the FAA at the following address: FAA/Airports District Office, 100 West Cross Street, Suite B, Jackson, MS 39208-2307.

In addition, one copy of any comments submitted to the FAA must be mailed or delivered to Mr. Bruce Frallic of the Gulfport-Biloxi Regional Airport Authority at the following address: 14035-L Airport Road, Gulfport, MS 39503 Air carriers and foreign air carriers may submit copies of written comments previously provided to the Gulfport-Biloxi Regional Airport Authority under § 158.23 of part 158.

FOR FURTHER INFORMATION CONTACT: Southern Region, Jackson Airports District Office, Patrick D. Vaught, Program Manager, 100 West Cross Street, Suite B, Jackson MS 39208-2307, Phone Number (601) 664-9885. The application may be reviewed in person at this same location.

SUPPLEMENTARY INFORMATION: The FAA proposes to rule and invites public comment on the application to impose and use the revenue from a PFC at Gulfport-Biloxi International Airport under the provisions of the 49 U.S.C. 40117 and part 158 of the Federal Aviation Regulations (145 CFR part 158).

On January 30, 2002, the FAA determined that the application to impose and use the revenue from a PFC submitted by Gulfport-Biloxi Regional Airport Authority was substantially complete within the requirements of § 158.25 of part 158. The FAA will approve or disapprove the application in whole or in part, no later than May 17, 2002.

The following is a brief overview of the application.

Proposed charge effective date: June 1, 2002.

Proposed charge expiration date: June 1, 2005.

Level of the proposed PFC: $3.00.

Total Estimated PFC revenue: $3,765,993.

Brief description of proposed projects:

1. Land Acquisition RPZ, Runways 14, 18, and 36.

2. Blast Study

3. Clear, Grub, and Preserve Padgett & Cuevas Property

4. Upgrade Closed Circuit Television, Security Improvements for Terminal, General Aviation, and Cargo Areas

5. Acquire Explosives Detection Dog

6. Construct Perimeter Road—Schedule B (North)

7. Rehabilitate Perimeter Fence—Security Improvements

8. South Central Cargo Area Expansion—Road, Utilities, and Site Work

9. Construct South West General Aviation Area, Phase II

10. Terminal Expansion—Baggage Claim Area, Federal Inspection Service, Baggage Search Area at Ticket Counters, and Security Screening

11. Conduct Pavement Condition Index Update, All Taxiways, Ramps, and Runway 18/36.

Class or classes of air carriers which the public agency had requested not be required to collect PFCs: None

Any person may inspect the application in person at the FAA office listed above under FOR FURTHER INFORMATION CONTACT and at the FAA regional Airports office located at: 1701 Columbia Avenue, College Park, GA 30337. In addition, any person may, upon request, inspect the application, notice and other documents germane to the application in person at the Gulfport-Biloxi International Airport.

Issued in Jackson, Mississippi on January 30, 2002.
Wayne Atkinson,
Manager, Jackson Airports District Office, Southern Region.

[FR Doc. 02-2830 Filed 2-5-02; 8:45 am]

BILLING CODE 4910-13-M